FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 5, 2003.

A. Federal Reserve Bank of Kansas City (James Hunter, Assistant Vice President) 925 Grand Avenue, Kansas City, Missouri 64198-0001:

1. Jeffrey L. Gerhart, Newman Grove, Nebraska; to acquire voting shares of First Newman Grove Bankshares Corporation, Newman Grove, Nebraska, and thereby indirectly acquire voting shares of The First National Bank of Newman Grove, Newman Grove, Nebraska.

Board of Governors of the Federal Reserve System, April 15, 2003.
Robert deV. Frierson,
Deputy Secretary of the Board.

[FR Doc. 03-9652 Filed 4-17-03; 8:45 am]

BILLING CODE 6210-01-S